DEPARTMENT OF JUSTICE

Notice of Lodging of Consent Decree Pursuant to the Comprehensive Environmental Response Compensation and Liability Act (CERCLA)

Pursuant to Section 122(d) of CERCLA, 42 U.S.C. 9622(d), and 28 CFR 50.7, notice is hereby given that on September 8, 2005, a proposed Consent Decree (“Decree” in United States v. Massachusetts Bay Transportation Authority, Civ. No. 05-11827 RWZ, was lodged with the United States District Court for the District of Massachusetts.

In this action the United States, on behalf of the United States Environmental Protection Agency (“EPA”), seeks cost recovery with respect to the Morses Pond Culvert Superfund Site (the “Site”), located in the Town of Wellesley, Massachusetts, pursuant to CERCLA, against the Massachusetts Bay Transportation Authority (“MBTA”), the current owner of a portion of the Site. The proposed Decree settles the claims brought by the United States against MBTA. Under the terms of the proposed settlement, within thirty days of entry of the Decree, MBTA will pay $150,000, plus interest, to reimburse the United States for a portion of its costs incurred at the Site.

The Department of Justice will receive, for a period of thirty (30) days from the date of this publication, written comments relating to the proposed Decree. Comments should be addressed to the Assistant Attorney General, Environment and Natural Resources Division, Post Office Box 7611, United States Department of Justice, Washington, DC 20044-7611, and should refer to United States v. Massachusetts Bay Transportation Authority, DOJ Ref. #90-11-3-07035/2. A copy of the comments should be sent to Donald G. Frankel, Department of Justice, Suite 616, One Gateway Center, Newton, MA, 02458.

The proposed Consent Decree may be examined at the Office of the United States Attorney for the District of Massachusetts, Office of the United States Attorney, 1 Courthouse Way, John Joseph Moakley Courthouse, Boston, Massachusetts 02210, and at the United States Environmental Protection Agency, Region 1, 1 Congress Street, Suite 1100, Boston, Massachusetts 02114-2023. During the public comment period, the Consent Decree may also be examined on the following Department of Justice Web site: http://www.usdoj.gov/enrd/open.html. A copy of the Consent Decree may be also be obtained by mail from the Consent Decree Library, Post Office Box 7611, Washington, DC 20044-7611, or by faxing or e-mailing a request to Tonia Fleetwood at tonia.fleetwood@usdoj.gov or fax no. (202) 514-0097, phone confirmation number (202) 514-1547. In requesting a copy of the Decree from the Consent Decree Library, please enclose a check in the amount of $4.75 (25 cents per page reproduction costs) payable to the United States Treasury.

Ronald G. Gluck,
Assistant Section Chief, Environmental Enforcement Section, Environment and Natural Resources Division.

[FR Doc. 05-18886 Filed 9-21-05; 8:45 am]

BILLING CODE 4410-15-M